NUCLEAR REGULATORY COMMISSION

[Docket No. 50-333; NRC-2014-0034]

Entergy Nuclear Operations, Inc., James A. Fitzpatrick Nuclear Power Plant

AGENCY: Nuclear Regulatory Commission.

ACTION: Director's Decision under 10 CFR 2.206; issuance.

SUMMARY: The U.S. Nuclear Regulatory Commission (NRC) has issued a director's decision with regard to a petition dated July 25, 2013, as supplemented on November 13, 2013, filed by Mr. David Lochbaum, (the petitioner), on behalf of Alliance for Green Economy, Beyond Nuclear, Citizens Awareness Network, and Union of Concerned Scientists, requesting that the NRC take action with regard to concerns with the operation of James A. FitzPatrick Nuclear Power Plant (FitzPatrick), owned by Entergy Nuclear Generation Company and operated by Entergy Nuclear Operations, Inc. (Entergy, the licensee). The petitioner's requests and the director's decision are included in the SUPPLEMENTARY INFORMATION section of this document.

ADDRESSES: Please refer to Docket ID NRC-2014-0034 when contacting the NRC about the availability of information regarding this document. You may obtain publicly-available information related to this document using any of the following methods:

• Federal Rulemaking Web site: Go to http://www.regulations.gov and search for Docket ID NRC-2014-0034. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. For the convenience of the reader, the ADAMS accession numbers are provided in a table in the “Availability of Documents” section of this document.

• NRC's PDR: You may examine and purchase copies of public documents at the NRC's PDR, Room O1-F21, One White Flint North, 11555 Rockville Pike, Rockville, Maryland 20852.

FOR FURTHER INFORMATION CONTACT: Mohan Thadani, Office of Nuclear Reactor Regulation, U.S. Nuclear Regulatory Commission, Washington, DC 20555-0001; telephone: 301-415-1476, email: Mohan.Thadani@nrc.gov.

SUPPLEMENTARY INFORMATION: Notice is hereby given that the Director, Office of Nuclear Reactor Regulation, has issued a director's decision (ADAMS Accession No. ML14247A306) on a petition filed by the petitioner on July 25, 2013, (ADAMS Accession No. ML13217A061). The petition was supplemented by letter dated November 13, 2013 (ADAMS Accession No. ML13347B133). The petitioner requested that the NRC take enforcement action by imposing a regulatory requirement that all the condenser tubes be replaced at FitzPatrick prior to the reactor restarting from its fall 2014 refueling outage.

On November 13, 2013, the petitioner and the licensee met with the NRC's Petition Review Board. The meeting provided the petitioner and the licensee an opportunity to provide additional information and to clarify issues cited in the petition. The transcript for that meeting is available in ADAMS under Accession No. ML14036A234.

As a basis of the request, the petitioners asserted that FitzPatrick is experiencing abnormally high occurrences of condenser tube failures. To repair these leaks, Entergy Nuclear Operations Inc. (Entergy) routinely reduces power, makes the repairs needed, and returns to full power. The petitioners state that these power excursions constitute a risk to public health and safety. The NRC's Reactor Oversight Process also recognizes the elevated risk associated with unplanned power changes.

The petitioner also asserts that operating experience indicates that condenser-tube leaks have contaminated the reactor coolant water with impurities from the condenser cooling water and have caused extensive damage to nuclear power plant components. Appendix B, “Quality Assurance Criteria for Nuclear Power Plants and Fuel Reprocessing Plants,” to part 50 of Title 10 of the Code of Federal Regulations (10 CFR), “Domestic Licensing of Production and Utilization Facilities” (see http://www.nrc.gov/reading-rm/doc-collections/cfr/part050/part050-appb.html), requires that plant owners develop and maintain quality-assurance programs.

The NRC observed that Entergy did not properly consider FitzPatrick's operating history, specifically the 4 years of outages, when projecting the expected condenser-tube life. Consequently, Entergy did not properly plan and design for condenser tube replacement before tube leakage, which has necessitated frequent downpowers for repair. Corrective actions include condenser-tube sleeving during the fall 2012 refueling outage and a planned complete replacement of all condenser tubes in the fall 2014 refueling outage.

The NRC sent a copy of the Proposed Director's Decision to the petitioner and the licensee for comments on June 27, 2014. The Petitioner and the licensee were asked to provide comments within 30 days on any part of the proposed Director's Decision that was considered to be erroneous or any issues in the petition that were not addressed. Comments were received from the Petitioner and are addressed in an attachment to the final Director's Decision.

The Director of the Office of Nuclear Reactor Regulation has determined that the request, to require the NRC to issue an Order requiring the licensee to replace all the condenser tubes prior to restart from FitzPatrick's fall 2014 refueling outage, be denied. The reasons for this decision are explained in the director's decision dated October 17, 2014, pursuant to 10 CFR 2.206 of the Commission's regulations.

The NRC will file a copy of the director's decision with the Secretary of the Commission for the Commission's review in accordance with 10 CFR 2.206. As provided by this regulation, the Director's Decision will constitute the final action of the Commission 25 days after the date of the Decision unless the Commission, on its own motion, institutes a review of the director's decision in that time.

Availability of Documents

The documents identified in the following table are available to interested persons through one or more of the following methods, as indicated.

Document | ADAMS Accession No./web link/Federal Register citation
G20130561—David Lochbaum E-mail re Tanya Mensah, NRR, Merrilee Banic, NRR; Andrea Russell, NRR, David Pelton, NRR; Mary Spencer; OGC | ML13217A061, July 25, 2013.
2013/12/12 NRR E-mail Capture—Attached please find the transcript for PRB telecon with petitioner Lochbaum “10 CFR 2.206 Petition Review Board re: Fitzpatrick Nuclear Power Plant” dated November 13, 2013 | ML14036A234, November 13, 2013.
G20130561—James A. Fitzpatrick Nuclear Power Plant—Petition Pursuant to Section 2.206 of Title 10 of the Code of Federal Regulations. (Acknowledgement Letter and Federal Register Notice) | ML14034A028 and ML14034A071, February 12, 2014.
IR 05000333-14-007; 01/20/2014—01/24/2014; James A. Fitzpatrick Nuclear Power Plant (FitzPatrick); Supplemental Inspection—Inspection Procedure (IP) 95001 | ML14133A051, May 12, 2014.
G20130561—James A. Fitzpatrick Nuclear Power Plant—Petition Pursuant to Section 2.206 of Title 10 of the Code of Federal Regulations | ML13217A059.
G20130561—Letter to Licensee Re: David Lochbaum ltr dtd 07/25/13 Concerning the 2.206 Petition on the Recurring Condenser Tube Leaks at the James A. Fitzpatrick Nuclear Power Plant (TAC No. MF2521) | ML14127A323, June 27, 2014.
G20130561—Letter to Petitioner Re: David Lochbaum Ltr dtd 07/25/13 Concerning the 2.206 Petition on the Recurring Condenser Tube Leaks at the James A. Fitzpatrick Nuclear Power Plant (TAC No. MF2521) | ML14127A335, June 27, 2014.
G20130561—2.206 Proposed Director's Decision Re: David Lochbaum Ltr dtd 07/25/13 Concerning the Recurring Condenser Tube Leaks at the James A Fitzpatrick Nuclear Power Plant (TAC No. MF2521) | ML14127A338, June 27, 2014.
2014/07/09 NRR E-mail Capture—Comments on Draft Director's Decision on FitzPatrick. (From Petitioner) | ML14251A270, July 09, 2014.
James A. FitzPatrick Nuclear Power Plant—Comments to Proposed Director's Decision Under 10 CFR 2.206. (From Licensee) | ML14204A819, July 23, 2014.
Letter to David Lochbaum: Response to petition filed on July 25, 2013 | ML14247A311.
Final Director's Decision: Petition filed on July 25, 2013 | ML14247A306.
James A. FitzPatrick Final Federal Register Notice—Issuance of Director's Decision 2.206 Petition Re: Condenser Tubes | ML14303A178.

Dated at Rockville, Maryland, this 17th day of October 2014.
For the Nuclear Regulatory Commission.
William M. Dean,
Director, Office of Nuclear Reactor Regulation.

[FR Doc. 2014-26308 Filed 11-4-14; 8:45 am]

BILLING CODE 7590-01-P